OFFICE OF MANAGEMENT AND BUDGET

Notice of Training Sessions: Effective Participation in the Public Comment Process With the Office of Information and Regulatory Affairs

AGENCY: Office of Management and Budget, Executive Office of the President.

ACTION: Notice of training sessions.

SUMMARY: The notice-and-comment Federal rulemaking process allows any member of the public to submit a comment on an agency's proposed rule, and in developing any final rule the agency generally must respond to relevant and significant public comments. As part of its efforts to strengthen public engagement in the Federal regulatory process, the Office of Information and Regulatory Affairs (OIRA) in the Office of Management and Budget (OMB) will offer training sessions on effective public participation in the public comment process.

DATES: The training sessions will be held on July 18, 2024, at 3 to 3:45 p.m., Eastern Time, and July 24, 2024, at 5:30 to 6:15 p.m., Eastern Time.

ADDRESSES: Information to access the virtual training sessions will be provided upon registration. Members of the public may register by sending an email to publicparticipation@omb.eop.gov, noting the session they would like to attend.

FOR FURTHER INFORMATION CONTACT: Please email the Office of Management and Budget at publicparticipation@omb.eop.gov.

SUPPLEMENTARY INFORMATION: Notice-and-comment rulemaking generally affords any interested individual or organization the opportunity to provide written input on a Federal agency's proposed rule. Agencies, in turn, are generally required to review these comments as they consider how best to finalize their regulatory proposals, and to respond to relevant and significant public comments in any subsequent final rule.

Interested members of the public who wish to comment, however, may not always be aware of the most effective way of participating in the notice-and-comment process. In public comments and listening sessions held prior to the release of OIRA's Memorandum, Broadening Public Participation and Community Engagement in the Regulatory Process, members of the public noted challenges they face in seeking to participate in the notice-and-comment process.¹ For example, interested members of the public may lack clarity on how to write effective comments on proposed rules; what experiences, data, or information would be most helpful to provide in comments; or how to submit a public comment.

¹ OIRA Memorandum, Broadening Public Participation and Community Engagement in the Regulatory Process 6-7 (Jul. 19, 2023), available at https://www.whitehouse.gov/wp-content/uploads/2023/07/Broadening-Public-Participation-and-Community-Engagement-in-the-Regulatory-Process.pdf.

In response to feedback received from the public and as part of its ongoing efforts to strengthen public participation in the regulatory process, OIRA will hold two training sessions on effective participation in the public comment process. At these training sessions, OIRA will describe (1) opportunities to provide comment in the Federal regulatory process; (2) how to submit public comments; and (3) how to draft effective public comments. The training sessions will be held on July 18, 2024, at 3 to 3:45 p.m., Eastern Time, and July 24, 2024, at 5:30 to 6:15 p.m., Eastern Time. Members of the public may register by sending an email to publicparticipation@omb.eop.gov, noting which session they would like to attend.

Richard L. Revesz,
Administrator, Office of Information and Regulatory Affairs.

[FR Doc. 2024-14869 Filed 7-9-24; 8:45 am]

BILLING CODE 3110-01-P